DEPARTMENT OF LABOR

Employment and Training Administration

Investigations Regarding Certifications of Eligibility To Apply for NAFTA Transitional Adjustment Assistance

Petitions for transitional adjustment assistance under the North American Free Trade Agreement—Transitional Adjustment Assistance Implementation Act (Pub.L. 103-182), hereinafter called (NAFTA-TAA), have been filed with State Governors under Section 250 (b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request is filed in writing with the Director of DTAA not later than April 21, 2000.

Also, interested persons are invited to submit written comments regarding the subject matter of the petitions to the Director of DTAA at the address shown below not late than April 21, 2000.

Petitions filed with the Governors are available for inspection at the Office of the Director, DTAA, ETA, DOL, Room C-4318, 200 Constitution Avenue, NW, Washington, DC 20210.

Grant D. Beale,
Program Manager, Division of Trade Adjustment Assistance.

Appendix
[03/28/2000]
Subject firm | Location | Date received at Governor's office | Petition No. | Articles produced
Renewable Energies (Co.) | Slatyfork, WV | 02/14/2000 | NAFTA-3,731 | Fuel.
Custom Emblems (Wkrs) | Tampa, FL | 02/21/2000 | NAFTA-3,732 | Embroidery & name tags.
Langenberg Hat (Wkrs) | New Haven, MO | 02/18/2000 | NAFTA-3,733 | Hat & caps.
FNA Acquisition (Co.) | Mooresville, NC | 02/18/2000 | NAFTA-3,734 | Prints & dyed fabrics.
Corporate Expressions Group (Co.) | Salisbury, NC | 02/18/2000 | NAFTA-3,735 | Administrative services.
Square D (IBEW) | Oshkosh, WI | 02/18/2000 | NAFTA-3,736 | Transformers.
Elliott Corporation (Wkrs) | Gillett, WI | 02/10/2000 | NAFTA-3,737 | Welding gloves.
Quaker Oats (UFCW) | St. Joseph, MO | 02/17/2000 | NAFTA-3,738 | Ready to eat cereal.
Southside Sportswear (Co.) | Florence, SC | 02/18/2000 | NAFTA-3,739 | Sewing of children's shirts & pants.
Preston Trucking (GT) | Pittsburg, PA | 02/14/2000 | NAFTA-3,740 | Hauling freight.
McMoRan Exploration (Co.) | Pecos, TX | 02/15/2000 | NAFTA-3,741 | Molten elemental sulpur.
Target (Wkrs) | Naperville, IL | 02/18/2000 | NAFTA-3,742 | Retail store.
Border Apparel Laundry (UNITE) | El Paso, TX | 02/16/2000 | NAFTA-3,743 | Jeans.
Kenro (Co.) | Fredonia, WI | 02/21/2000 | NAFTA-3,744 | Fiberglass trays.
Alphabet (UNITE) | El Paso, TX | 02/15/2000 | NAFTA-3,745 | Automotive parts.
Brunswick Bicycles (Co.) | Onley, IL | 02/28/2000 | NAFTA-3,746 | Bicycles.
Briggs Industries (Wrks) | Robinson, IL | 02/28/2000 | NAFTA-3,747 | Plumbing products.
Circular Banding (Co.) | Athens, GA | 02/08/2000 | NAFTA-3,748 | Elastic bands.
Emerson Electric (Wkrs) | Rogers, AR | 02/23/2000 | NAFTA-3,749 | Laminations framebands shafts.
VDO North America (Co.) | Cheshire, CT | 02/18/2000 | NAFTA-3,750 | Automotive components.
York International (UAW) | Waynesboro, PA | 02/22/2000 | NAFTA-3,751 | Oil separators.
Epson Portland (Wkrs) | Hillsboro, OR | 02/22/2000 | NAFTA-3,752 | Printers.
GCC Cutting (Wkrs) | El Paso, TX | 01/22/2000 | NAFTA-3,753 | Fabric cutting.
Oshkosh B'Gosh (UFCW) | Oshkosh, WI | 02/23/2000 | NAFTA-3,754 | Childrens wear & childrens books.
Raco—Hubbell (Wkrs) | Southbend, IN | 02/21/2000 | NAFTA-3,755 | Steel electrical box's fittings.
Vermont Castings Majestic Products (Wkrs) | Huntington, IN | 02/24/2000 | NAFTA-3,756 | Sales & administrative services.
Conoco (Co.) | Oklahoma City, OK | 02/23/2000 | NAFTA-3,757 | Oil and gas.
Rite Industries (Co.) | High Point, NC | 02/28/2000 | NAFTA-3,758 | Dyes.
John Clark (Co.) | Denver, CO | 02/23/2000 | NAFTA-3,759 | Underground mining equipment.
Burnsville Apparel (Co.) | Wadesboro, NC | 02/24/2000 | NAFTA-3,760 | Thermal underwear & turtlenecks.
General Electric (Wkrs) | Somersworth, NH | 02/28/2000 | NAFTA-3,761 | Residential meters.
Alliance Labeling & Decorating (Wkrs) | Allentown, PA | 02/28/2000 | NAFTA-3,762 | Labeled glass & plastic bottles.
Ithaca Industries (Co.) | Glennville, GA | 02/28/2000 | NAFTA-3,763 | Men's & women's under & outer garments.
Ametek (Co.) | Bartow, FL | 02/28/2000 | NAFTA-3,764 | Automotive gauge.
Bassett Upholster (Wkrs) | Duman, AR | 02/29/2000 | NAFTA-3,765 | Furniture upholster.
Valley Cities Apparel (Wkrs) | Sayre, PA | 02/28/2000 | NAFTA-3,766 | Sportswear & sleepwear.
ISA Cutting Room Services (UNITE) | El Paso, TX | 02/29/2000 | NAFTA-3,767 | Cut men's & women's pants & slacks.
Donaldson Company (Wkrs) | Oelwein, IA | 01/21/2000 | NAFTA-3,768 | Bent bolt clamps & freon filters.
Diana Knitting (The) (Co.) | Johnstown, NY | 02/08/2000 | NAFTA-3,769 | Activewear/knitwear.
TI Group Automotive Systems (Co.) | Maquoketa, IA | 02/18/2000 | NAFTA-3,770 | Fabricated tubing assemblies.
Bula (Co.) | Durango, CO | 02/29/2000 | NAFTA-3,771 | Fleece hats & mittens etc.
Russell—Jerzees Activewear (Co.) | Geneva, AL | 03/01/2000 | NAFTA-3,772 | Knit apparel.
Hamrick's (Co.) | Jonesville, SC | 03/01/2000 | NAFTA-3,773 | Ladies apparel.
Brandon Manufacturing (Co.) | Shreveport, LA | 03/01/2000 | NAFTA-3,774 | Metal parts, stators.
Award Windows (Wkrs) | Ferndale, WA | 03/01/2000 | NAFTA-3,775 | Commercial windows.
Pincus Brothers (UNITE) | Philadelphia, PA | 03/02/2000 | NAFTA-3,776 | Cut & sew men's suits.
Quaker Oats (Wkrs) | Shiremanstown, PA | 03/03/2000 | NAFTA-3,777 | Ready to eat cereals.
Caretek (Co.) | Denver, CO | 03/02/2000 | NAFTA-3,778 | Fleece apparel.
Atessa (UNITE) | Philadelphia, PA | 03/02/2000 | NAFTA-3,779 | Men's suit coats & pants.
Smithville Sportswear (Co.) | Smithville, TN | 03/06/2000 | NAFTA-3,780 | Men's & women's knit apparel.
Rochester Button (Wkrs) | South Buston, VA | 03/03/2000 | NAFTA-3,781 | Polyester buttons.
LaCrosse Footwear (Wkrs) | LaCrosse, WI | 03/03/2000 | NAFTA-3,782 | Molded outsoles.
Link Door Controls (Co.) | Ronkonkoma, NY | 02/29/2000 | NAFTA-3,783 | Motors.
Eastman Kodak (Co.) | Rochester, NY | 02/29/2000 | NAFTA-3,784 | Graphics finishing.
Cross Creek Apparel (Co.) | Mount Airy, NC | 03/06/2000 | NAFTA-3,785 | Knit shirts & pants.
Royal Bank of Canada (Wkrs) | New York, NY | 02/09/2000 | NAFTA-3,786 | Financial services.
Cherrybell (Co.) | Tucson, AZ | 03/06/2000 | NAFTA-3,787 | Ladies underwear.
ISO Electronics (Co.) | Indianapolis, IN | 03/10/2000 | NAFTA-3,788 | Circuit boards.
McCain Foods (UFCW) | Burley, ID | 03/07/2000 | NAFTA-3,789 | French fries.
3-I (Co.) | Murrells Inlet, SC | 03/08/2000 | NAFTA-3,790 | Cutting & sewing.
House of Perfection—Williston Mfg. (Co.) | Williston, SC | 03/09/2000 | NAFTA-3,791 | Childrenswear.
Great American Knitting Mills (Co.) | Bally, PA | 03/08/2000 | NAFTA-3,792 | Gold toe men's socks.
PJC Sportswear (Wkrs) | Brooklyn, NY | 03/07/2000 | NAFTA-3,793 | Beachwear, bathing suits.
Meritor Automotive (UAW) | Oshkosh, WI | 03/07/2000 | NAFTA-3,794 | Brakes, transmissions.
Rohm and Haas (IUOE) | Philadelphia, PA | 03/07/2000 | NAFTA-3,795 | Ion exchange resins & herbicides.
C and L Textiles (Co.) | New York, NY | 03/07/2000 | NAFTA-3,796 | Knit fabric & women's garments.
Raytheon Systems (Wkrs) | El Segundo, CA | 01/31/2000 | NAFTA-3,797 | Jet aircraft & radar systems.
Kimberly Clark (Co.) | Cleburne, TX | 03/07/2000 | NAFTA-3,798 | Disposable protective apparel.
Tyco Electronics (Wkrs) | Marion, KY | 03/06/2000 | NAFTA-3,799 | Electrical relays & circuit breakers.
Hartwell Industries (Co.) | Hartwell, GA | 03/10/2000 | NAFTA-3,800 | Knit shirts.
May Apparel Group (Co.) | Mebane, NC | 03/10/2000 | NAFTA-3,801 | Clothing and apparel.
Levi Strauss (Wkrs) | El Paso, TX | 03/10/2000 | NAFTA-3,802 | Jeans.
Rising Eagle (Co.) | East Tawas, MI | 03/10/2000 | NAFTA-3,803 | Reloading of single use cameras.
Border Apparel (UNITE) | El Paso, TX | 02/28/2000 | NAFTA-3,804 | Jeans—Men and Women.
Avent—Kimberly Clark (Co.) | Tucson, AZ | 03/15/2000 | NAFTA-3,805 | Disposable surgical products.
MTF (Wkrs) | West Lawn, PA | 03/17/2000 | NAFTA-3,806 | Men's and boy's activewear.
Toshiba Display Devices (IBEW) | Horseheads, NY | 03/20/2000 | NAFTA-3,807 | Color picture tubes for TV's.
Woodgrain Millwork (Co.) | Lakeview, OR | 03/20/2000 | NAFTA-3,808 | Pine mouldings.
Fedco Automotive (Wkrs) | Buffalo, NY | 03/21/2000 | NAFTA-3,809 | Heater cores.

[FR Doc. 00-8920 Filed 4-10-00; 8:45 am]

BILLING CODE 4510-30-M